DEPARTMENT OF COMMERCE

National Oceanic and Atmospheric Administration

[I.D. 040103B ]

Availability of Draft Environmental Assessment

AGENCY: National Marine Fisheries Service (NMFS), National Oceanic and Atmospheric Administration (NOAA), Commerce.

ACTION: Notice of availability and request for comment.

SUMMARY: Notice is hereby given that NMFS has prepared a draft environmental assessment (EA) of impacts on the human environment of the potential issuance of three enhancement permits authorizing take of listed salmon and steelhead in the upper Columbia River Basin associated with the operation of artificial propagation programs. This document serves to notify the public of the availability of the draft EA for review and comment before a final decision on whether to issue a Finding of No Significant Impact is made by NMFS.

DATES: Written comments on the draft EA must be received no later than 5 p.m. Pacific daylight time on May 2, 2003.

ADDRESSES: Written comments on the application should be sent to Hatcheries and Inland Fisheries Branch, Sustainable Fisheries Division, NMFS, 525 N.E. Oregon Street, Suite 510, Portland, Oregon 97232. Comments may also be sent via fax to (503) 872-2737. Comments will not be accepted if submitted via e-mail or the Internet. Requests for copies of the draft EA should be directed to the Portland office. The document also is available on the Internet at http://www.nwr.noaa.gov/ or it may be reviewed by appointment during business hours at the Portland office by calling (503) 230-5409.

FOR FURTHER INFORMATION CONTACT: Kristine Petersen, Portland, Oregon, at phone number: (503) 230-5409, e-mail: Kristine.Petersen@noaa.gov

SUPPLEMENTARY INFORMATION: This document is relevant to the following species and evolutionarily significant units (ESUs):

Steelhead (Oncorhynchus mykiss): endangered Upper Columbia River.

Chinook salmon (O. tshawytscha): endangered Upper Columbia River spring run.

Background

National Environmental Policy Act (NEPA) requires Federal agencies to conduct an environmental analysis of their proposed actions to determine if the actions may affect the human environment. NMFS expects to take action on ESA section 10(a)(1)(A) submittals expected from the applicants. Therefore NMFS is seeking public input on the scope of the required NEPA analysis, including the range of reasonable alternatives and associated impacts of any alternatives.

On June 12, 2002, NMFS received an application for an ESA section 10 permit from the Washington Department of Fish and Wildlife requesting a multi-year authorization for an annual take of Upper Columbia River steelhead and Upper Columbia River spring chinook salmon associated with proposed steelhead artificial propagation programs intended to enhance the natural production of ESA-listed Upper Columbia River steelhead. Notice of the receipt of this permit application was published in the Federal Register on August 1, 2002, and a public informational meeting was held on August 28, 2002, in Wenatchee, WA to inform the public of the receipt of this permit application.

In April 2002, negotiations on the Anadromous Fish Agreement and Habitat Conservation Plans (HCP) for Rocky Reach Hydroelectric Project ( Federal Energy Regulatory Commission (FERC) License Number 2145), Rock Island Hydroelectric Project (FERC License Number 943), and the Wells Hydroelectric Project (FERC License Number 2149) were completed related to the re-licensing of Wells Dam with Public Utilities District No. 1 of Douglas County, and Rocky Reach Dam, and Rock Island Dam with Public Utilities District No. 1 of Chelan County. These long-term agreements provide for mitigation in the form of artificial propagation programs to replace unavoidable losses to natural fish production. The artificial propagation component of each HCP specifies the number and species to be reared. The impacts of the HCP on the environment were considered in an Environmental Impact Statement (EIS) which was published for comment in the Federal Register on December 27, 2002.

On June 11, 2002, NMFS received a similar application for an ESA section 10 permit from the U.S. Fish and Wildlife Service, requesting a multi-year authorization for an annual take of Upper Columbia River steelhead and Upper Columbia River spring chinook salmon associated with a steelhead artificial propagation program in the Methow River Basin. Notice of the receipt of this permit application was published in the Federal Register on August 1, 2002, and a public informational meeting was held on August 28, 2002, in Wenatchee, WA to inform the public of the receipt of this permit application.

On October 23, 2002, NMFS received an application for a section 10 permit from the Confederated Tribes of the Colville Reservation, requesting a multi-year authorization for an annual take of ESA-listed Upper Columbia River steelhead and Upper Columbia River spring chinook salmon associated with a steelhead artificial propagation program in the Okanogan River Basin. Funding for this program has been allocated through the Pacific Salmon Coastal Recovery Fund administered by NMFS, and is consistent with Bureau of Reclamation steelhead recovery efforts ongoing in the Okanogan Basin. Notice of the receipt of this permit application was published in the Federal Register on January 14, 2003.

In total the proposed programs would provide artificial propagation and release of about 1.03 million ESA-listed Upper Columbia River steelhead into the Upper Columbia River Basin and for the monitoring and management of the returning adult steelhead to the Upper Columbia River Basin. The general effects on the environment considered include the impacts on the physical, biological, and socioeconomic environments of the Upper Columbia River Basin.

Dated: April 8, 2003.
Phil Williams,
Chief, Endangered Species Division, Office of Protected Resources National Marine Fisheries Service.

[FR Doc. 03-9493 Filed 4-16-03; 8:45 am]

BILLING CODE 3510-22-S